DEPARTMENT OF THE TREASURY

Office of Foreign Assets Control

31 CFR Part 587

Publication of Russian Harmful Foreign Activities Sanctions Regulations Web General License 131B

AGENCY: Office of Foreign Assets Control, Treasury.

ACTION: Publication of a web general license.

SUMMARY: The Department of the Treasury's Office of Foreign Assets Control (OFAC) is publishing a general license (GL) issued pursuant to the Russian Harmful Foreign Activities Sanctions Regulations: GL 131B, which was previously made available on OFAC's website.

DATES: GL 131B was issued on January 14, 2026. See SUPPLEMENTARY INFORMATION for additional relevant dates.

FOR FURTHER INFORMATION CONTACT: OFAC: Assistant Director for Regulatory Affairs, 202-622-4855; or https://ofac.treasury.gov/contact-ofac.

SUPPLEMENTARY INFORMATION:

Electronic Availability

This document and additional information concerning OFAC are available on OFAC's website: https://ofac.treasury.gov/.

Background

On January 14, 2026, OFAC issued GL 131B to authorize certain transactions otherwise prohibited by the Russian Harmful Foreign Activities Sanctions Regulations, 31 CFR part 587. This GL was made available on OFAC's website (https://ofac.treasury.gov) when it was issued. GL 131B replaced and superseded GL 131A. GL 131B has an expiration date of February 28, 2026. The text of this GL is provided below.

OFFICE OF FOREIGN ASSETS CONTROL

Russian Harmful Foreign Activities Sanctions Regulations

31 CFR Part 587

GENERAL LICENSE NO. 131B

Authorizing Certain Transactions for the Negotiation of and Entry Into Contingent Contracts for the Sale of Lukoil International GmbH and Related Maintenance Activities

(a) Except as provided in paragraph (d) of this general license, all transactions prohibited by Executive Order (E.O.) 14024 that are ordinarily incident and necessary to the negotiation of and entry into contracts with Public Joint-Stock Company Oil Company Lukoil or any of its affiliates for the sale, disposition, or transfer of Lukoil International GmbH (“LIG”) or any entity in which LIG owns, directly or indirectly, individually or in the aggregate, a 50 percent or greater interest (collectively, “LIG Entities”) are authorized through 12:01 a.m. eastern standard time, February 28, 2026, provided that the performance of any such contract is made expressly contingent upon the receipt of separate authorization from the Office of Foreign Assets Control (“contingent contracts”).

Note to Paragraph (a). For purposes of this general license, the term “contingent contracts” includes executory contracts, executory pro forma invoices, agreements in principle, executory offers capable of acceptance such as bids or proposals in response to public tenders, binding memoranda of understanding, or any other similar agreement.

(b) Except as provided in paragraph (d) of this general license, all transactions prohibited by E.O. 14024 that are ordinarily incident and necessary to the maintenance or wind down of operations, contracts, or other agreements of LIG Entities are authorized through 12:01 a.m. eastern standard time, February 28, 2026.

(c) All blocked accounts of LIG Entities may be used, debited, or credited for the transactions authorized in paragraph (b).

(d) This general license does not authorize:

(1) The unblocking of any property blocked pursuant to any part of 31 CFR chapter V, except as authorized in paragraph (c);

(2) Any transactions otherwise prohibited by the Russian Harmful Foreign Activities Sanctions Regulations, 31 CFR part 587 (RuHSR), including transactions involving any person blocked pursuant to the RuHSR, other than blocked persons described in paragraph (a) of this general license, unless separately authorized; or

(3) The transfer of funds to any person or account located in the Russian Federation.

(e) Effective January 14, 2026, General License No. 131A, dated December 10, 2025, is replaced and superseded in its entirety by this General License No. 131B.

Bradley T. Smith,

Director, Office of Foreign Assets Control.

Dated: January 14, 2026.
Bradley T. Smith,
Director, Office of Foreign Assets Control.

[FR Doc. 2026-04083 Filed 2-27-26; 8:45 am]

BILLING CODE 4810-AL-P